DEPARTMENT OF HEALTH AND HUMAN SERVICES

National Institutes of Health

Prospective Grant of Exclusive License: Method of Treating or Preventing Cancer Using Radiosensitizing Agents

AGENCY: National Institutes of Health, Public Health Service, HHS.

ACTION: Notice.

SUMMARY: This is notice, in accordance with 35 U.S.C. 209(c)(1) and 37 CFR Part 404.7(a)(1)(i), that the National Institutes of Health, Department of Health and Human Services, is contemplating the grant of an exclusive patent license to practice the invention embodied in U.S. Provisional Patent Application No. 60/718,172, filed September 16, 2005, entitled “Method of Treating or Preventing Cancer Using Pyridine Carboxaldehyde Pyridine Thiosemicarbazone Radiosensitizing Agents” [E-319-2005/0-US-01; E-319-2005/0-PCT-02], to Vion Pharmaceuticals, Inc., having a place of business in New Haven, Connecticut. The patent rights in these inventions have been assigned to the United States of America.

The prospective exclusive license territory may be worldwide, and the field of use may be limited to the use of the Triapine as a radiosensitizer as claimed in the licensed patent rights for the treatment of cancer and other tumors.

DATES: Only written comments and/or applications for a license which are received by the NIH Office of Technology Transfer on or before February 20, 2007 will be considered.

ADDRESSES: Requests for copies of the patent application, inquiries, comments, and other materials relating to the contemplated exclusive license should be directed to: Adaku Madu, J.D., Technology Licensing Specialist, Office of Technology Transfer, National Institutes of Health, 6011 Executive Boulevard, Suite 325, Rockville, MD 20852-3804; Telephone: (301) 435-5560; Facsimile: (301) 402-0220; E-mail: madua@mail.nih.gov.

SUPPLEMENTARY INFORMATION: This technology relates to using 2-carboxyaldehyde pyridine thiosemicarbazone compounds or prodrugs thereof, specifically 3-amino-2-carboxyaldehyde pyridine thiosemicarbazone (Triapine) or 4-methyl-3-amino-2-carbozyaldehyde pyridine thiosemicarbazone, as radiosensitizing agents prior to administering ionizing radiation.

The prospective exclusive license will be royalty bearing and will comply with the terms and conditions of 35 U.S.C. 209 and 37 CFR Part 404.7. The prospective exclusive license may be granted unless within sixty (60) days from the date of this published notice, the NIH receives written evidence and argument that establishes that the grant of the license would not be consistent with the requirements of 35 U.S.C. 209 and 37 CFR Part 404.7.

Applications for a license in the field of use filed in response to this notice will be treated as objections to the grant of the contemplated exclusive license. Comments and objections submitted to this notice will not be made available for public inspection and, to the extent permitted by law, will not be released under the Freedom of Information Act, 5 U.S.C. 552.

Dated: December 13, 2006.
Steven M. Ferguson,
Director, Division of Technology Development and Transfer, Office of Technology Transfer, National Institutes of Health.

[FR Doc. E6-21905 Filed 12-21-06; 8:45 am]

BILLING CODE 4140-01-P